FEDERAL TRADE COMMISSION

Public Workshop: Business Opportunity Rule

An FTC Workshop Analyzing Business Opportunity Disclosure Form and Other Proposed Changes to the Business Opportunity Rule

Correction

In notice document E9-9440 appearing on page 18712 in the issue of April 24, 2009, make the following correction:

On page 18715, in the third column, in the SUPPLEMENTARY INFORMATION section, after the word Secretary in the eighteenth line, the following Appendix A should be added:

BILLING CODE 6750-01-S

APPENDIX A

Donald S. Clark,
Secretary.

[FR Doc. E9-10812 Filed 5-7-09: 8:45 am]

BILLING CODE 6750-01-C